DEPARTMENT OF ENERGY

Federal Energy Regulatory Commission

Combined Notice of Filings #1

Take notice that the Commission received the following electric rate filings:

Docket Numbers: ER12-2250-001.

Applicants: Public Power & Utility of New Jersey, LL.

Description: Compliance filing per 35: Notice of Succession and Revised Market Based Rate Tariff to be effective 5/22/2015.

Filed Date: 6/22/15.

Accession Number: 20150622-5133.

Comments Due: 5 p.m. ET 7/13/15.

Docket Numbers: ER13-1928-005.

Applicants: Duke Energy Progress, Inc., Duke Energy Carolinas, LLC.

Description: Compliance filing per 35: Order No. 1000 Interregional—SERTP & MISO to be effective 1/1/2015.

Filed Date: 6/22/15.

Accession Number: 20150622-5071.

Comments Due: 5 p.m. ET 7/13/15.

Docket Numbers: ER13-1930-005.

Applicants: Louisville Gas and Electric Company.

Description: Compliance filing per 35: Order No 1000 Interregional Compliance Filing SERTP & MISO to be effective 1/1/2015.

Filed Date: 6/22/15.

Accession Number: 20150622-5137.

Comments Due: 5 p.m. ET 7/13/15.

Docket Numbers: ER13-1940-006.

Applicants: Ohio Valley Electric Corporation.

Description: Compliance filing per 35: M-2 Compliance Filing to be effective 1/1/2015.

Filed Date: 6/22/15.

Accession Number: 20150622-5155.

Comments Due: 5 p.m. ET 7/13/15.

Docket Numbers: ER13-1941-005.

Applicants: Alabama Power Company.

Description: Compliance filing per 35: Order No. 1000 Second Interregional Compliance Filing—SERTP-MISO Seam to be effective 1/1/2015.

Filed Date: 6/22/15.

Accession Number: 20150622-5149.

Comments Due: 5 p.m. ET 7/13/15.

Docket Numbers: ER14-1594-002; ER14-1596-002.

Applicants: Lone Valley Solar Park I LLC, Lone Valley Solar Park II LLC.

Description: Notice of Non-Material Change in Status of Lone Valley Solar Park I LLC, et. al.

Filed Date: 6/22/15.

Accession Number: 20150622-5128.

Comments Due: 5 p.m. ET 7/13/15.

Docket Numbers: ER15-1954-000.

Applicants: UNS Electric, Inc.

Description: Section 205(d) rate filing per 35.13(a)(2)(iii): Concurrence to Gila River Ownership Agreement to be effective 11/25/2014.

Filed Date: 6/19/15.

Accession Number: 20150619-5169.

Comments Due: 5 p.m. ET 7/10/15.

Docket Numbers: ER15-1955-000.

Applicants: UNS Electric, Inc.

Description: Section 205(d) rate filing per 35.13(a)(2)(iii): Concurrence to Interconnection Agreement to be effective 11/11/2013.

Filed Date: 6/19/15.

Accession Number: 20150619-5171.

Comments Due: 5 p.m. ET 7/10/15.

Docket Numbers: ER15-1956-000.

Applicants: PJM Interconnection, L.L.C., Pennsylvania Electric Company.

Description: Section 205(d) rate filing per 35.13(a)(2)(iii): Penelec submits Engineering & Construction Service Agreement No. 4154 to be effective 6/11/2015.

Filed Date: 6/19/15.

Accession Number: 20150619-5186.

Comments Due: 5 p.m. ET 7/10/15.

Docket Numbers: ER15-1957-000.

Applicants: PJM Interconnection, L.L.C.

Description: Section 205(d) rate filing per 35.13(a)(2)(iii): Original Service Agreement No. 4157; Queue No. #V1-024/025 to be effective 5/21/2015.

Filed Date: 6/22/15.

Accession Number: 20150622-5076.

Comments Due: 5 p.m. ET 7/13/15.

Docket Numbers: ER15-1958-000.

Applicants: Dynegy Resources Management, LLC.

Description: Baseline eTariff Filing per 35.1: Baseline Refile of Market-Based Rate Tariff to be effective 4/29/2015.

Filed Date: 6/22/15.

Accession Number: 20150622-5086.

Comments Due: 5 p.m. ET 7/13/15.

Docket Numbers: ER15-1959-000.

Applicants: New England Power Pool Participants Committee.

Description: Section 205(d) rate filing per 35.13(a)(2)(iii): June 22 2015 Membership Filing to be effective 6/23/2015.

Filed Date: 6/22/15.

Accession Number: 20150622-5126.

Comments Due: 5 p.m. ET 7/13/15.

Docket Numbers: ER15-1960-000.

Applicants: Midcontinent Independent System Operator, Inc.

Description: Section 205(d) rate filing per 35.13(a)(2)(iii): 2015-06-22_SA 2447 ITC Transmission-Detroit Edison 1st Rev GIA (J122/J325) to be effective 6/23/2015.

Filed Date: 6/22/15.

Accession Number: 20150622-5141.

Comments Due: 5 p.m. ET 7/13/15.

Take notice that the Commission received the following electric securities filings:

Docket Numbers: ES15-36-000.

Applicants: Golden Spread Electric Cooperative, Inc.

Description: Application under Section 204 of the Federal Power Act for Authorization to Issue Securities of Golden Spread Electric Cooperative, Inc.

Filed Date: 6/19/15.

Accession Number: 20150619-5230.

Comments Due: 5 p.m. ET 7/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2015.
Kimberly D. Bose,
Secretary.

[FR Doc. 2015-15868 Filed 6-26-15; 8:45 am]

BILLING CODE 6717-01-P